DEPARTMENT OF COMMERCE

International Trade Administration

[A-570-166]

Certain Epoxy Resins From the People's Republic of China: Postponement of Final Determination in the Less Than Fair Value Investigation

AGENCY: Enforcement and Compliance, International Trade Administration, Department of Commerce.

SUMMARY: The U.S. Department of Commerce (Commerce) is postponing the deadline for issuing the final determination in the less-than-fair-value (LTFV) investigation of certain epoxy resins (epoxy resins) from the People's Republic of China (China) until March 28, 2025, and is extending the provisional measures from a four-month period to a period of not more than six months.

DATES: Applicable November 29, 2024.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

On April 23, 2024, Commerce initiated an LTFV investigation of imports of epoxy resins from China.¹ The period of investigation is October 1, 2023, through March 31, 2024. On November 13, 2024, Commerce published its Preliminary Determination of sales at LTFV of epoxy resins from China.²

¹ See Certain Epoxy Resins from the People's Republic of China, India, the Republic of Korea, Taiwan, and Thailand: Initiation of Less-Than-Fair-Value Investigations, 89 FR 33324 (April 29, 2024).

² See Certain Epoxy Resins from the People's Republic of China: Preliminary Affirmative Determination of Sales at Less Than Fair Value and Preliminary Affirmative Determination of Critical Circumstances, 89 FR 89594 (November 13, 2024) (Preliminary Determination).

Postponement of Final Determination

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period of not more than six months, in accordance with section 733(d) of the Act.

On November 18, 2024, Huntsman Advanced Materials (Guangdong) Company Ltd. (Huntsman), the mandatory respondent in this investigation, requested that Commerce postpone the deadline for the final determination until no later than 135 days from the publication of the Preliminary Determination, and extend the application of the provisional measures from a four-month period to a period of not more than six months.³

³ See Huntsman's Letter, “Request to Postpone Final Determination,” dated November 18, 2024.

In accordance with section 735(a)(2)(A) of the Act and 19 CFR 351.210(b)(2)(ii), because: (1) the Preliminary Determination was affirmative; (2) the request was made by an exporter or producer who accounts for a significant proportion of exports of the subject merchandise; and (3) no compelling reasons for denial exist, Commerce is postponing the final determination until no later than 135 days after the date of the publication of the Preliminary Determination, and extending the provisional measures from a four-month period to a period of not more than six months. Accordingly, Commerce will issue its final determination no later than March 28, 2025.

Notification to Interested Parties

This notice is issued and published pursuant to section 735(a)(2) of the Act and 19 CFR 351.210(g).

Dated: November 22, 2024.
Abdelali Elouaradia,
Deputy Assistant Secretary for Enforcement and Compliance.

[FR Doc. 2024-28021 Filed 11-27-24; 8:45 am]

BILLING CODE 3510-DS-P